DEPARTMENT OF THE TREASURY

Office of Foreign Assets Control

Additional Designations, Foreign Narcotics Kingpin Designation Act

AGENCY: Office of Foreign Assets Control, Treasury.

ACTION: Notice.

SUMMARY: The Treasury Department's Office of Foreign Assets Control (“OFAC”) is publishing the names of fourteen additional entities and seventeen additional individuals whose property and interests in property have been blocked pursuant to the Foreign Narcotics Kingpin Designation Act (“Kingpin Act”) (21 U.S.C. 1901-1908, 8 U.S.C. 1182).

DATES: The designation by the Secretary of the Treasury of the fourteen entities and seventeen individuals identified in this notice pursuant to section 805(b) of the Kingpin Act is effective on August 5, 2008.

FOR FURTHER INFORMATION CONTACT: Assistant Director, Compliance Outreach & Implementation, Office of Foreign Assets Control, Department of the Treasury, Washington, DC 20220, tel.: (202) 622-2490.

SUPPLEMENTARY INFORMATION:

Electronic and Facsimile Availability

This document and additional information concerning OFAC are available on OFAC's Web site (http://www.treas.gov/ofac) or via facsimile through a 24-hour fax-on-demand service, tel.: (202) 622-0077.

Background

The Kingpin Act became law on December 3, 1999. The Act provides a statutory framework for the President to impose sanctions against significant foreign narcotics traffickers and their organizations on a worldwide basis, with the objective of denying their businesses and agents access to the U.S. financial system and to the benefits of trade and transactions involving U.S. companies and individuals.

The Kingpin Act blocks all property and interests in property subject to U.S. jurisdiction which are owned or controlled by significant foreign narcotics traffickers as identified by the President. In addition, the Kingpin Act blocks the property and interests in property subject to U.S. jurisdiction of foreign persons designated by the Secretary of Treasury, in consultation with the Attorney General, the Director of Central Intelligence, the Director of the Federal Bureau of Investigation, the Administrator of the Drug Enforcement Administration, the Secretary of Defense, Secretary of State and the Secretary of Homeland Security as: (1) Materially assisting in, or providing financial or technological support for or to, or providing goods or services in support of, the international narcotics trafficking activities of a person designated pursuant to the Kingpin Act; (2) owned, controlled, or directed by, or acting for or on behalf of, a person designated pursuant to the Kingpin Act; or (3) playing a significant role in international narcotics trafficking.

On August 5, 2008, OFAC designated an additional fourteen entities and seventeen individuals whose property and interests in property are blocked pursuant to section 805(b) of the Foreign Narcotics Kingpin Designation Act.

The list of additional designees follows:

Entities

1. GRUPO INDUSTRIAL GAXIOLA HERMANOS S.A. DE C.V. (f.k.a. MADYVA; a.k.a. GRUPO INDUSTRIAL GAXIOLA); Calle del Oro, Esq. Vinedo, Colonia Parque Industrial, Hermosillo, Sonora 83299, Mexico; Luis Encinas y Alberto Truqui, Hermosillo, Sonora, Mexico; Guadalajara, Jalisco, Mexico; R.F.C. GIG910522BR8 (Mexico); (ENTITY) [SDNTK]

2. AGRICOLA GAXIOLA S.A. DE C.V., Calle Colonizadores No. exterior 83 y No.interior D, Esq. Quintas de las Aves, Col. Las Quintas, Hermosillo, Sonora 83240, Mexico; R.F.C. AGA9607119X3 (Mexico); (ENTITY) [SDNTK]

3. COMPANIA MINERA DEL RIO CIANURY S.A. DE C.V., Calle Rio Piaxtla No. exterior 45, Col. Guadalupe, Culiacan, Sinaloa 80220, Mexico; R.F.C. MRC900823R6A (Mexico); (ENTITY) [SDNTK]

4. COPA DE PLATA S.A. DE C.V., Calle Fco I Madero Ote, No. exterior 183, Colonia Centro, Culiacan, Sinaloa 80000, Mexico; Blvd. Francisco I. Madero Numero 183 al Oriente, Colonia Centro, Culiacan, Sinaloa 80000, Mexico; R.F.C. CPL9103222F5 (Mexico) issued: 22 Mar 1991; (ENTITY) [SDNTK]

5. TEMPLE DEL PITIC S.A. DE C.V. (f.k.a. CORPORATIVO GAXIOLA HERMANOS S.A. DE C.V.); Blvd. Francisco Eusebio Kino 177-7, Col. 5 de Mayo, Hermosillo, Sonora 83010, Mexico; Avenida Angel Garcia Aburto #62, Colonia Loma Linda, Hermosillo, Sonora, Mexico; Colonizadores No. 83D, Colonia Las Quintas, Esq. Quintas de las Aves, Hermosillo, Sonora 83240, Mexico; Blvd Rodriguez 108, Col Centro, Hermosillo, Sonora, Mexico; R.F.C. CGH960503DL9 (Mexico); d.b.a. “ANARQUIA PAINTBALL”; (ENTITY) [SDNTK]

6. DISTRIBUIDORA GRAN AUTO S.A. DE C.V., Hermosillo, Sonora, Mexico; R.F.C. DGA960531NUA (Mexico); (ENTITY) [SDNTK]

7. INMOBILIARIA GAXIOLA HERMANOS S.A. DE C.V. (f.k.a. DISTRIBUIDORA DE MUEBLES GAXIOLA HERMANOS; a.k.a. INMOBILIARIA GAXIOLA); Blvd. Francisco Eusebio km. 177-7, Col. 5 de Mayo, Hermosillo, Sonora 83010, Mexico; Blvd. L Encinas numero 581-A, Esquina Truqui, Colonia Pimentel, Hermosillo, Sonora, Mexico; Michoacan 404 Inter. 11, Colonia Cerrada Paraiso, Hermosillo, Sonora 83170, Mexico; Michoacan 404 Inter. 11, Colonia Cerrada Paraiso, Hermosillo, Sonora 83188, Mexico; Blvd. Jose Maria Morelos s/n y Ave 13 Col Colinas del Bachoco, Hermosillo, Sonora 83000, Mexico; Guadalajara, Jalisco, Mexico; R.F.C. IGH910522UM3 (Mexico); R.F.C. DMG910522611 (Mexico); (ENTITY) [SDNTK]

8. MOLDURAS DEL NOROESTE S.A. DE C.V., Blvd. Francisco Eusebio Kino 177-7, Col. 5 de Mayo, Hermosillo, Sonora 83010, Mexico; R.F.C. MNO960403HJ0 (Mexico); (ENTITY) [SDNTK]

9. MINERA LA CASTELLANA Y ANEXAS S.A. DE C.V., Culiacan, Sinaloa, Mexico; R.F.C. MCA9011192R3 (Mexico); (ENTITY) [SDNTK]

10. MINERA RIO PRESIDIO S.A. DE C.V., Culiacan, Sinaloa, Mexico; (ENTITY) [SDNTK]

11. DISTRIBUIDORA DE HERMOSILLO GAXIOLA HERMANOS S.A. DE C.V. (a.k.a. MADYVA); Fco. Eusebio Kino 177-7, Col. 5 de Mayo, Hermosillo, Sonora 83010, Mexico; Blvd. Luis Encinas 581, Esquina Alberto Truqui, Colonia Pimentel, Hermosillo, Sonora, Mexico; Guadalajara, Jalisco, Mexico; R.F.C. DHG900717NV3 (Mexico); (ENTITY) [SDNTK]

12. INMUEBLES SIERRA VISTA S.A. DE C.V., Hermosillo, Sonora, Mexico; (ENTITY) [SDNTK]

13. FLETES Y TRANSPORTES GAXGAR S.A. DE C.V., Boulevard Luis Encinas No 581-B Esquina Alberto Truqui, Colonia Pimentel, Hermosillo, Sonora, Mexico; Guadalajara, Jalisco, Mexico; Alberto Truqui 581, Col. Pimentel, CP 83188, Hermosillo, Sonora, Mexico, Hermosillo, Sonora 83188, Mexico; R.F.C. FTG950807F20 (Mexico); (ENTITY) [SDNTK]

14. BIOESPORT S.A. DE C.V., Avenida Ave. 13 y Morelos S/N, Colonia Bachoco, Hermosillo, Sonora 83148, Mexico; R.F.C. BIO901025VE2 (Mexico); (ENTITY) [SDNTK]

Individuals

1. GAXIOLA GARCIA, Rigoberto, c/o INMOBILIARIA GAXIOLA HERMANOS S.A. DE C.V., Hermosillo, Sonora, Mexico; c/o AGRICOLA GAXIOLA S.A. DE C.V., Hermosillo, Sonora, Mexico; c/o COPA DE PLATA S.A. DE C.V., Culiacan, Sinaloa, Mexico; c/o MINERA LA CASTELLANA Y ANEXAS S.A. DE C.V., Culiacan, Sinaloa, Mexico; c/o MINERA RIO PRESIDIO S.A. DE C.V., Culiacan, Sinaloa, Mexico; c/o TEMPLE DEL PITIC S.A. DE C.V., Hermosillo, Sonora, Mexico; c/o DISTRIBUIDORA GRAN AUTO S.A. DE C.V., Hermosillo, Sonora, Mexico; c/o GRUPO INDUSTRIAL GAXIOLA HERMANOS S.A. DE C.V., Hermosillo, Sonora, Mexico; c/o INMUEBLES SIERRA VISTA S.A. DE C.V., Hermosillo, Sonora, Mexico; c/o MOLDURAS DEL NOROESTE S.A. DE C.V., Hermosillo, Sonora, Mexico; c/o DISTRIBUIDORA DE HERMOSILLO GAXIOLA HERMANOS S.A. DE C.V., Hermosillo, Sonora, Mexico; c/o FLETES Y TRANSPORTES GAXGAR S.A. DE C.V., Hermosillo, Sonora, Mexico; c/o BIOESPORT S.A. DE C.V., Hermosillo, Sonora, Mexico; Calles Olivares y Eduardo W. Villa, Colonia Olivares, Hermosillo, Sonora, Mexico; Alamos No. 42, Colonia Modelo, Hermosillo, Sonora, Mexico; Avenida de Anza #210, Colonia Pitic, Hermosillo, Sonora, Mexico; Rafael Campoy #307, Pitic, Hermosillo, Sonora, Mexico; Calle de Anza Numero 210, Colonia Pitic, Hermosillo, Sonora, Mexico; Uvalama No. 19, Col Los Sabinos, Hermosillo, Sonora, Mexico; Avenida Adolfo de la Huerta 401, Colonia Pitic, Hermosillo, Sonora, Mexico; Ave Colonizadores 830, Hermosillo, Sonora, Mexico; DOB 25 Jan 1973; Alt. DOB 26 Jan 1973; POB CULIACAN, SINALOA, MEXICO; Citizen Mexico; Nationality Mexico; R.F.C. GAGR730125DC9 (Mexico); C.U.R.P. GAGR730125HSLXRG08 (Mexico); R.F.C. GACR730125 (Mexico); R.F.C. GAGP730125 (Mexico); (INDIVIDUAL) [SDNTK]

2. GARCIA DURAN, Maria Del Rosario, c/o GRUPO INDUSTRIAL GAXIOLA HERMANOS S.A. DE C.V., Hermosillo, Sonora, Mexico; c/o INMOBILIARIA GAXIOLA HERMANOS S.A. DE C.V., Hermosillo, Sonora, Mexico; c/o MINERA LA CASTELLANA Y ANEXAS S.A. DE C.V., Culiacan, Sinaloa, Mexico; c/o MINERA RIO PRESIDIO S.A. DE C.V., Culiacan, Sinaloa, Mexico; c/o MOLDURAS DEL NOROESTE S.A. DE C.V., Hermosillo, Sonora, Mexico; c/o DISTRIBUIDORA DE HERMOSILLO GAXIOLA HERMANOS S.A. DE C.V., Hermosillo, Sonora, Mexico; c/o DISTRIBUIDORA GRAN AUTO S.A. DE C.V., Hermosillo, Sonora, Mexico; c/o TEMPLE DEL PITIC S.A. DE C.V., Hermosillo, Sonora, Mexico; c/o FLETES Y TRANSPORTES GAXGAR S.A. DE C.V., Hermosillo, Sonora, Mexico; c/o COMPANIA MINERA DEL RIO CIANURY S.A. DE C.V., Culiacan, Sinaloa, Mexico; c/o COPA DE PLATA S.A. DE C.V., Culiacan, Sinaloa, Mexico; Prop. Priv y Bldg G. Escoboza, Hermosillo, Sonora, Mexico; Preferico Poniente, Calle Simon Bleyy Manuel I. Loaiza, Colonia Olivaries, Hermosillo, Sonora, Mexico; Calle Clavel No. 1406, Esquina con Calle Rosa, Colonia Margarita, Culiacan, Sinaloa, Mexico; Rafael Campoy #307, Colonia Pitic, Hermosillo, Sonora, Mexico; Calle de Anza Numero 210, Colonia Pitic, Hermosillo, Sonora, Mexico; Av. Uvalama 15, Hermosillo, Sonora, Mexico; Alamos 40, Colonia Modelo, Hermosillo, Sonora, Mexico; Ave Eduardo Villa 333, Col Oliv., Hermosillo, Sonora, Mexico; Calle Uvalama 19 Esq., Blvd Sabinos, Hermosillo, Sonora, Mexico; Uvalama 15 y Sabinos, Col Sabin, Hermosillo, Sonora, Mexico; DOB 12 Sep 1953; POB Culiacan, Sinaloa, Mexico; Citizen Mexico; Nationality Mexico; R.F.C. GADR531112 (Mexico); R.F.C. GADR521211 (Mexico); (INDIVIDUAL) [SDNTK]

3. GAXIOLA GARCIA, Carlos Alberto, c/o INMUEBLES SIERRA VISTA S.A. DE C.V., Hermosillo, Sonora, Mexico; c/o DISTRIBUIDORA GRAN AUTO S.A. DE C.V., Hermosillo, Sonora, Mexico; Calle Angel Garcia Aburto No. 62, Col. Loma Linda, Hermosillo, Sonora, Mexico; Calles Olivares y Eduardo W. Villa, Hermosillo, Sonora, Mexico; Avenida Raul Campoy Numero 307, Colonia Pitic, Hermosillo, Sonora, Mexico; DOB 02 Mar 1978; POB Hermosillo, Sonora, Mexico; Citizen Mexico; Nationality Mexico; R.F.C. GAGC780302H75 (Mexico); C.U.R.P. GAGC780302HSRXRR00 (Mexico); (INDIVIDUAL) [SDNTK]

4. GAXIOLA GARCIA, Maria Elena, c/o INMOBILIARIA GAXIOLA HERMANOS S.A. DE C.V., Hermosillo, Sonora, Mexico; c/o DISTRIBUIDORA GRAN AUTO S.A. DE C.V., Hermosillo, Sonora, Mexico; Calle Rafael Campoy No. 305, Col. Pitic, Hermosillo, Sonora, Mexico; Rafael Campoy Num 307, Hermosillo, Sonora, Mexico; Priv. Bugambilia 55, Colonia Bugambilia, Hermosillo, Sonora, Mexico; DOB 18 Aug 1975; POB Culiacan, Sinaloa, Mexico; Alt. POB Arizpe, Sonora, Mexico; Citizen Mexico; Nationality Mexico; R.F.C. GAGE750818L66 (Mexico); C.U.R.P. GAGE750818MSLXRL11 (Mexico); C.U.R.P. GAGE750818MSLXRL03 (Mexico); R.F.C. GAGE350904 (Mexico); R.F.C. GAGE680511 (Mexico); (INDIVIDUAL) [SDNTK]

5. ARCE BORBOA, Ana Cristina, c/o COPA DE PLATA S.A. DE C.V., Culiacan, Sinaloa, Mexico; c/o MINERA LA CASTELLANA Y ANEXAS S.A. DE C.V., Culiacan, Sinaloa, Mexico; c/o MINERA RIO PRESIDIO S.A. DE C.V., Culiacan, Sinaloa, Mexico; c/o COMPANIA MINERA DEL RIO CIANURY S.A. DE C.V., Culiacan, Sinaloa, Mexico; Calle Artesanos No. 255, Colonia Burocrata, Culiacan, Sinaloa, Mexico; Prof. Raul Franco Barreda 97, Fracc. Arboles, Culiacan, Sinaloa, Mexico; DOB 22 May 1961; POB Navolato, Sinaloa, Mexico; Alt. POB Culiacan, Sinaloa, Mexico; Citizen Mexico; Nationality Mexico; R.F.C. AEBA610522 (Mexico); C.U.R.P. AEBA610522MSLRRN00 (Mexico); C.U.R.P. AEBA610522MSLRRN18 (Mexico); (INDIVIDUAL) [SDNTK]

6. FITCH PARENTE, Jose Elmer, c/o COMPANIA MINERA DEL RIO CIANURY S.A. DE C.V., Culiacan, Sinaloa, Mexico; c/o MINERA RIO PRESIDIO S.A. DE C.V., Culiacan, Sinaloa, Mexico; c/o MINERA LA CASTELLANA Y ANEXAS S.A. DE C.V., Culiacan, Sinaloa, Mexico; Francisco I. Madero Numero 145 al Oriente, Colonia Centro, Culiacan, Sinaloa, Mexico; DOB 27 Jan 1965; POB Mazatlan, Sinaloa, Mexico; Citizen Mexico; Nationality Mexico; R.F.C. FIPJ650127 (Mexico); C.U.R.P. FIPE650127HSLTRL05 (Mexico); (INDIVIDUAL) [SDNTK]

7. FITCH PARENTE, Pablo Antonio, c/o COMPANIA MINERA DEL RIO CIANURY S.A. DE C.V., Culiacan, Sinaloa, Mexico; Boulevard Francisco I. Madero Numero 145 al Oriente, Colonia Centro, Culiacan, Sinaloa, Mexico; DOB 24 Mar 1966; POB Mazatlan, Sinaloa, Mexico; Alt. POB Culiacan, Sinaloa, Mexico; Citizen Mexico; Nationality Mexico; R.F.C. FIPP660324 (Mexico); C.U.R.P. FIPP660324HSLTRB07 (Mexico); (INDIVIDUAL) [SDNTK]

8. FITCH TOVAR, Jose Manuel, c/o COMPANIA MINERA DEL RIO CIANURY S.A. DE C.V., Culiacan, Sinaloa, Mexico; c/o MINERA LA CASTELLANA Y ANEXAS S.A. DE C.V., Culiacan, Sinaloa, Mexico; c/o MINERA RIO PRESIDIO S.A. DE C.V., Culiacan, Sinaloa, Mexico; c/o COPA DE PLATA S.A. DE C.V., Culiacan, Sinaloa, Mexico; Rio de la Plata, numero 28, Campo Bello de Mazatlan, Sinaloa, Mexico; DOB 28 Dec 1936; POB Panuco, Concordia, Sinaloa, Mexico; Citizen Mexico; Nationality Mexico; R.F.C. FITM361228 (Mexico); (INDIVIDUAL) [SDNTK]

9. DUARTE MUNOZ, Roque (a.k.a. CAMPOS ARREDONDO, Humberto); c/o COMPANIA MINERA DEL RIO CIANURY S.A. DE C.V., Culiacan, Sinaloa, Mexico; DOB 09 Dec 1960; POB Mexico; (INDIVIDUAL) [SDNTK]

10. AGUIRRE CARDONA, Armando, Mexico; DOB 28 Oct 1955; POB Nuevo Leon, Monterrey, Mexico; Citizen Mexico; Nationality Mexico; C.U.R.P. AUCA551028HNLGRR03 (Mexico); R.F.C. AUCA551028 (Mexico); (INDIVIDUAL) [SDNTK]

11. QUINTERO ARCE, Juan Francisco (a.k.a. “El Chato”); Mexico; DOB 26 Aug 1959; POB Mocorito, Sinaloa, Mexico; Citizen Mexico; Nationality Mexico; R.F.C. QUAJ590826P41 (Mexico); C.U.R.P. QUAJ590826HSLNRN02 (Mexico); (INDIVIDUAL) [SDNTK]

12. LUCERO DE MARTINEZ, Sandra (a.k.a. VALENCIA ZAZUETA, Sandra; a.k.a. LUCERO VALENZUELA, Sandra; a.k.a. VALENZUELA, Sandra; a.k.a. VALENZUELA ZAZUETA, Sandra); Mexico; DOB 29 Oct 1969; POB Nogales, Sonora, Mexico; Citizen Mexico; Nationality Mexico; C.U.R.P. VAZS691029MSRLZN04 (Mexico); C.U.R.P. VAZS691029HSRLZN04 (Mexico); (INDIVIDUAL) [SDNTK]

13. GUZMAN ENRIQUEZ, Juan Luis, Mexico; DOB 24 Jun 1950; POB La Huacana, Michoacan De Ocampo, Mexico; Citizen Mexico; Nationality Mexico; R.F.C. GUEJ500624 (Mexico); C.U.R.P. GUEJ500624HDFZNN06 (Mexico); (INDIVIDUAL) [SDNTK]

14. VEGA SANCHEZ, Jose Raul, c/o AGRICOLA GAXIOLA S.A. DE C.V., Hermosillo, Sonora, Mexico; c/o INMUEBLES SIERRA VISTA S.A. DE C.V., Hermosillo, Sonora, Mexico; c/o TEMPLE DEL PITIC S.A. DE C.V., Hermosillo, Sonora, Mexico; DOB 19 Oct 1956; POB Cananea, Sonora, Mexico; Citizen Mexico; Nationality Mexico; C.U.R.P. VESR561019HSRGNL09 (Mexico); C.U.R.P. VEXR561019HSRGXL05 (Mexico); (INDIVIDUAL) [SDNTK]

15. FONTES MORENO, Eleazar, c/o AGRICOLA GAXIOLA S.A. DE C.V., Hermosillo, Sonora, Mexico; c/o TEMPLE DEL PITIC S.A. DE C.V., Hermosillo, Sonora, Mexico; Avenida Serdan No. 122 Poniente, Altos 10, Hermosillo, Sonora, Mexico; Ave. Real 73, Hermosillo, Sonora 83200, Mexico; DOB 23 Jul 1947; POB Hermosillo, Sonora, Mexico; Citizen Mexico; Nationality Mexico; Passport 260057687 (Mexico); C.U.R.P. FOME470723HSRNRL05 (Mexico); (INDIVIDUAL) [SDNTK]

16. VALENCIA JAIME, Rafael Angel, c/o AGRICOLA GAXIOLA S.A. DE C.V., Hermosillo, Sonora, Mexico; c/o TEMPLE DEL PITIC S.A. DE C.V., Hermosillo, Sonora, Mexico; Ave Articulo 123 109, Hermosillo, Sonora 83287, Mexico; DOB 22 Jan 1968; POB Hermosillo, Sonora, Mexico; Citizen Mexico; Nationality Mexico; Passport 02260105052 (Mexico); C.U.R.P. VAJR680122HSRLMF08 (Mexico); (INDIVIDUAL) [SDNTK]

17. BALDENEGRO BASTIDAS, Manuel Dario, c/o AGRICOLA GAXIOLA S.A. DE C.V., Hermosillo, Sonora, Mexico; DOB 11 Jan 1963; POB Hermosillo, Sonora, Mexico; Alt. POB Distrito Federal, Mexico, Mexico; Citizen Mexico; Nationality Mexico; Passport 260000406 (Mexico); C.U.R.P. BABM630111HSLLSN16 (Mexico); C.U.R.P. BABM630111HSLLSN08 (Mexico); (INDIVIDUAL) [SDNTK]

Dated: August 5, 2008.
Adam J. Szubin,
Director, Office of Foreign Assets Control.

[FR Doc. E8-18419 Filed 8-8-08; 8:45 am]

BILLING CODE 4811-45-P